U.S.-CHINA ECONOMIC AND SECURITY REVIEW COMMISSION

Notice of Open Public Hearing

AGENCY: U.S.-China Economic and Security Review Commission.

ACTION: Notice of open public hearing—February 1-2, 2007, Washington, DC.

SUMMARY: Notice is hereby given of the following hearing of the U.S.-China Economic and Security Review Commission.

Name: Carolyn Bartholomew, Chairman of the U.S.-China Economic and Security Review Commission.

The Commission is mandated by Congress to investigate, assess, evaluate and report to Congress annually on “the national security implications and impact of the bilateral trade and economic relationship between the United States and the People's Republic of China.”

Pursuant to this mandate, the Commission will hold a public hearing in Washington, DC on February 1-2, 2007 to address “The U.S.-China Relationship: Economics and Security in Perspective.”

Background

This event is the first in a series of public hearings the Commission will hold during its 2007 report cycle to collect input from leading experts in academic, business, industry, government and the public on the impact of the economic and national security implications of the U.S. bilateral trade and economic relationship with China. The February 1-2 hearing is being conducted to obtain commentary about the status of U.S.-China relations, from economic, security, and diplomatic perspectives, in order to assess the progress our bilateral relationship since the granting of permanent normalized trade relations to China, and to identify the challenges facing our relationship in 2007.

The February 1-2 hearing will address “The U.S.-China Relationship: Economics and Security in Perspective” and will be Co-chaired by Chairman Carolyn Bartholomew and Vice Chairman Daniel Blumenthal.

Information on hearings, as well as transcripts of past Commission hearings, can be obtained from the USCC Web site http://www.uscc.gov.

Copies of the hearing agenda will be made available on the Commission's Web site http://www.uscc.gov as soon as available. Any interested party may file a written statement by February 1, 2007, by mailing to the contact below. On February 1, the hearing will be held in two sessions, one in the morning and one in the afternoon, and on the morning of February 2, where Commissioners will take testimony from invited witnesses. There will be a question and answer period between the Commissioners and the witnesses.

DATE AND TIME: Thursday, February 1, 2007, 9 a.m. to 4:30 p.m. Eastern Standard Time and Friday, February 2, 2007 at 9 a.m. to noon. A detailed agenda for the hearing will be posted to the Commission's Web site at http://www.uscc.gov in the near future.

ADDRESSES: The hearing will be held on Capitol Hill in Room 562 Dirksen Senate Office Building located at First Street and Constitution Avenue, NE., Washington, DC 20510. Public seating is limited to about 50 people on a first come, first served basis. Advance reservations are not required.

FOR FURTHER INFORMATION CONTACT: Any member of the public wishing further information concerning the hearing should contact Kathy Michels, Associate Director for the U.S.-China Economic and Security Review Commission, 444 North Capitol Street, NW., Suite 602, Washington DC 20001; phone: 202-624-1409, or via e-mail at kmichels@uscc.gov.

Authority: Congress created the U.S.-China Economic and Security Review Commission in 2000 in the National Defense Authorization Act (Pub. L. 106-398), as amended by Division P of the Consolidated Appropriations Resolution, 2003 (Pub. L. 108-7), as amended by Public Law 109-108 (November 22, 2005).

Dated: January 11, 2007.
Kathleen J. Michels,
Associate Director, U.S.-China Economic and Security Review Commission.

[FR Doc. E7-602 Filed 1-16-07; 8:45 am]

BILLING CODE 1137-00-P